LEGAL SERVICES CORPORATION

Sunshine Act Meeting of the Board of Directors Committee on Provision for the Delivery of Legal Services

TIME AND DATE: The Committee on Provision for the Delivery of Legal Services of the Legal Services Corporation Board of Directors will meet on April 5, 2002. The meeting will begin at 9 a.m. and continue until the Committee concludes its agenda.

LOCATION: The Melrose Hotel, 2430 Pennsylvania Avenue, NW., Washington, DC.

STATUS OF MEETING: Open.

MATTERS TO BE CONSIDERED: 1. Approval of agenda.

2. Approval of the minutes of the Committee's meeting of January 18, 2002.

3. Update by Patricia Hanrahan, Special Assistant to the Vice President for Programs, on LSC's Diversity Initiative/Creation of an Action Plan.

4. Update by Robert Gross Senior Program Counsel for State Planning, on State Planning.

5. Panel Discussion on Providing High Quality Legal Services—The Important and Continuing Role of Litigation and Extended Services. Moderator—Randi Youells, Vice President for Programs. Panel Participants: Hannah Lieberman, Legal Aid Bureau of Maryland; Wilson Yellowhair, DNA-Peoples Legal Services, Inc.; Christine Luzzie, Legal Services Corporation of Iowa; Luis Jaramillo, California Rural Legal Assistance; and Jessie Nicholson, Southern Minnesota Regional Legal Services.

6. Consider and act on other business.

7. Public comment.

FOR FURTHER INFORMATION CONTACT: Victor M. Fortuno, Vice President for Legal Affairs, General Counsel & Corporate Secretary of the Corporation, at (202) 336-8800.

Special Needs: Upon request, meeting notices will be made available in alternate formats to accommodate visual and hearing impairments. Individuals who have a disability and need an accommodation to attend the meeting may notify Elizabeth S. Cushing, at (202) 336-8800.

Dated: March 28, 2002.
Victor M. Fortuno,
Vice President for Legal Affairs, General Counsel & Corporate Secretary.

[FR Doc. 02-8034 Filed 3-29-02; 11:29 am]

BILLING CODE 7050-01-P